DEPARTMENT OF JUSTICE

Notice of Lodging Proposed Consent Decree

In accordance with Departmental Policy, 28 CFR 50.7, notice is hereby given that a proposed Consent Decree in United States v. Bonneville Hot Springs, Inc., et al. (W.D. Wash.), No. C08-5184-RBL, was lodged with the United States District Court for the Western District of Washington on July 14, 2008.

This proposed Consent Decree concerns a complaint filed by the United States against Bonneville Hot Springs, Inc., d/b/a/ Bonneville Hot Springs Resort; Pirfil (“Pete”) Cam, and Elena Cam, pursuant to Sections 301 and 404 of the Clean Water Act, 33 U.S.C. 1311 and 1344, to obtain injunctive relief from and impose civil penalties against the Defendants for violating the Clean Water Act by discharging pollutants without a permit into waters of the United States. The Complaint also alleges that the Defendants committed trespass, in violation of Washington State law, RCW 4.24.630. The proposed Consent Decree resolves these allegations by requiring the Defendants to restore the impacted areas and pay a civil penalty, and also requires that Defendants Pirfil (“Pete”) Cam and Elena Cam execute a deed restriction to preserve natural vegetative and hydrologic conditions on property owned by them.

The Department of Justice will accept written comments relating to this proposed Consent Decree for thirty (30) days from the date of publication of this Notice. Please address comments to Harold Malkin, Assistant United States Attorney, 700 Stewart Street, Suite 5220, Seattle, Washington 98101-1271, and refer to United States v. Bonneville Hot Springs, Inc., et al. (W.D. Wash.), No. 08-5184-RBL.

The proposed Consent Decree may be examined at the Clerk's Office, United States District Court for the Western District of Washington, 700 Stewart Street, Seattle, Washington 98101-1271. In addition, the proposed Consent Decree may be viewed at http://www.usdoj.gov/enrd/Consent_Decrees.html.

Russell M. Young,
Assistant Section Chief, Environmental Defense Section, Environment & Natural Resources Division.

[FR Doc. E8-16532 Filed 7-18-08; 8:45 am]

BILLING CODE 4410-15-P